DEPARTMENT OF VETERANS AFFAIRS

38 CFR Part 3

RIN 2900-AK07

Signature by Mark

AGENCY: Department of Veterans Affairs.

ACTION: Final rule.

SUMMARY: This document amends the Department of Veterans Affairs (VA) adjudication regulation that explains how a claimant can use a mark or a thumbprint in place of a signature. This amendment is necessary to present the existing regulation in plain language and to remove an obsolete manual provision from VA's Adjudication Procedural Manual, M21-1. This document also adds a new subpart D to part 3 along with a section setting forth the scope of applicability of subpart D.

DATES: Effective Date: April 6, 2001.

FOR FURTHER INFORMATION CONTACT: Candice Weaver, Consultant, Plain Language Regulations Project, or Bob White, Team Leader, Plain Language Regulations Project, Veterans Benefits Administration, 810 Vermont Avenue, NW., Washington, DC, 20420, telephone 202-273-7235 and 202-273-7228 respectively.

SUPPLEMENTARY INFORMATION: VA published a proposal in the Federal Register on July 26, 2000 (65 FR 45952-53) to rewrite 38 CFR 3.113 in plain language. We proposed to create new § 3.2130 to restate the current regulation and to remove the obsolete requirement in the Adjudication Procedure Manual that eligibility verification reports signed by mark or thumbprint be accompanied by a separate sheet of paper certifying that the information contained on the form is true and correct. Interested persons were invited to submit written comments on or before September 25, 2000. We received one comment from the National Service Director of the Disabled American Veterans.

The comment suggested improving the proposed rule by permitting the acceptance of signatures on documents by mark or thumbprint when witnessed by accredited agents, attorneys, or service organization representatives. The commenter referred to VA's recently proposed amendment to 38 CFR 3.203 to authorize the acceptance of copies of military records certified as true and exact copies by claimants' representatives (65 FR 39580). This proposal was consistent with the partnership being developed between accredited representatives and VA for the purpose of improving claims processing. VA concurs with the commenter and has modified the proposed rule to reflect the comment. Proposed § 3.2130 has been amended by redesignating proposed paragraphs (b) and (c) as paragraphs (c) and (d) respectively, and by adding a new paragraph (b) to read “They are witnessed by an accredited agent, attorney, or service organization representative, or”.

No comments were received with regard to the addition of subpart D or § 3.2100 on the scope of applicability of subpart D.

VA appreciates the comment submitted in response to the proposed rule which, based on the rationale set forth in the proposal and this document, is now adopted with the change explained above.

Executive Order 12866

This final rule has been reviewed by the Office of Management and Budget under Executive Order 12866.

Paperwork Reduction Act

This document contains no provisions constituting a collection of information under the Paperwork Reduction Act (44 U.S.C. 3501-3520).

Regulatory Flexibility Act

The Secretary hereby certifies that these final rules will not have a significant economic impact on a substantial number of small entities as they are defined in the Regulatory Flexibility Act, 5 U.S.C. 601-612. The reason for this certification is that these final rules do not directly affect any small entities. Only VA beneficiaries are directly affected. Therefore, pursuant to 5 U.S.C. 605(b), these final rules are exempt from the initial and final regulatory flexibility analysis requirement of sections 603 and 604.

The Catalog of Federal Domestic Assistance program numbers are 64.100, 64.101, 64.104, 64.105, 64.109, 64.110, and 64.127.

List of Subjects in 38 CFR Part 3

Administrative practice and procedures, Claims, Disability benefits, Health care, Pensions, Veterans, Vietnam.

Approved: February 15, 2001.
Anthony J. Principi,
Acting Secretary of Veterans Affairs.

For the reasons set forth in the preamble, 38 CFR part 3 is amended as follows:

PART 3—ADJUDICATION

Subpart A—Pension, Compensation, and Dependency and Indemnity Compensation

1. The authority citation for part 3, subpart A continues to read as follows:

Authority: 38 U.S.C. 501(a), unless otherwise noted.

§ 3.113 [Removed]

2. Section 3.113 is removed.

Subpart C—[Reserved]

3. Subpart C is added and reserved.

4. A new subpart D is added to read as follows:

Subpart D—Universal Adjudication Rules That Apply to Benefit Claims Governed by Part 3 of This Title

General

Sec.
3.2100 Scope of Applicability.
3.2130 Will VA accept a signature by mark or thumbprint?

Subpart D—Universal Adjudication Rules That Apply to Benefit Claims Governed by Part 3 of This Title

Authority: 38 U.S.C. 501(a), unless otherwise noted.

General

5. Section 3.2100 is added to read as follows:

§ 3.2100 Scope of Applicability.

Unless otherwise specified, the provisions of this subpart apply only to claims governed by part 3 of this title.

(Authority: 38 U.S.C. 501(a)).

6. Section 3.2130 is added to read as follows:

§ 3.2130 Will VA accept a signature by mark or thumbprint?

VA will accept signatures by mark or thumbprint if:

(a) They are witnessed by two people who sign their names and give their addresses, or

(b) They are witnessed by an accredited agent, attorney, or service organization representative, or

(c) They are certified by a notary public or any other person having the authority to administer oaths for general purposes, or

(d) They are certified by a VA employee who has been delegated authority by the Secretary under 38 CFR 2.3.

(Authority: 38 U.S.C. 5101).

[FR Doc. 01-8491 Filed 4-5-01; 8:45 am]

BILLING CODE 8320-01-U